DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting an administrative supplement in scope of the parent award for the one grant recipient funded in fiscal year (FY) 2020 under the Suicide Prevention Resource Center (SPRC) Notice of Funding Opportunity (NOFO) SM-20-011. The grant recipient may receive up to $2,817,614. The recipient's project period will be extended by 12 months until August 30, 2025. The supplemental funding will be used to develop the new National Strategy for Suicide Prevention, which sets the direction of the field to prioritize suicide prevention activities. This is being requested by the White House Domestic Policy Council.

FOR FURTHER INFORMATION CONTACT: Brandon J. Johnson, Substance Abuse and Mental Health Services Administration, 5600 Fishers Lane, Rockville, MD 20857, telephone (240) 276-1222; email: brandon.johnson1@samhsa.hhs.gov.

SUPPLEMENTARY INFORMATION:

Funding Opportunity Title: FY 2020 Suicide Prevention Resource Center SM-20-011.

Assistance Listing Number: 93.243.

Authority: Section 520A and 520C of the Public Health Service Act, as amended.

Justification: Eligibility for this supplemental funding is limited to the University of Oklahoma Health Sciences Center which was funded in FY 2020 under the Suicide Prevention Resource Center grant. The University of Oklahoma Health Sciences Center has special expertise completing activities and developing previous versions of the National Strategy for Suicide Prevention.

This is not a formal request for application. Assistance will only be provided to the sole SPRC grant recipient funded in FY 2020 under SM-20-011 based on the receipt of a satisfactory application and associated budget that is approved by a review group.

Dated: April 26, 2023.
Ann Ferrero,
Public Health Analyst.

[FR Doc. 2023-09138 Filed 4-28-23; 8:45 am]

BILLING CODE 4162-20-P